SECURITIES AND EXCHANGE COMMISSION

[Release No. 34-65660; File Nos. SR-EDGA-2011-29; SR-EDGX-2011-28]

Self-Regulatory Organizations; EDGA Exchange, Inc.; EDGX Exchange, Inc.; Notice of Designation of Longer Period for Commission Action on Proposed Rule Changes Relating to Amendments to EDGA and EDGX Rules Regarding the Registration and Obligations of Market Makers

October 31, 2011.

On August 30, 2011, EDGA Exchange, Inc. and EDGX Exchange, Inc. (“EDGA” and “EDGX,” or “Exchanges”) filed with the Securities and Exchange Commission (“Commission”), pursuant to Section 19(b)(1) of the Securities Exchange Act of 1934 (“Act”),¹ and Rule 19b-4 thereunder,² proposed rule changes relating to amendments to EDGA and EDGX rules regarding the registration and obligations of market makers. The proposed rule changes were published for comment in the Federal Register on September 16, 2011.³

¹ 15 U.S.C. 78s(b)(1).

² 17 CFR 240.19b-4.

³ See Securities Exchange Act Release No. 65315 (September 12, 2011), 76 FR 57772 (September 16, 2011) (SR-EDGX-2011-28); Securities Exchange Act Release No. 65316 (September 12, 2011), 76 FR 57787 (SR-EDGA-2011-29).

Section 19(b)(2) of the Act ⁴ provides that, within forty-five days of the publication of notice of the filing of a proposed rule change, or within such longer period as the Commission may designate up to ninety days of such date if it finds such longer period to be appropriate and publishes its reasons for so finding, the Commission shall either approve or disapprove the proposed rule change or institute proceedings to determine whether the proposed rule change should be disapproved. The 45th day for these filings is October 31, 2011.

⁴ 15 U.S.C. 78s(b)(2).

The Commission finds it appropriate to designate a longer period within which to take action on the proposed rule changes so that it has sufficient time to consider these proposed rule changes and the issues raised by these proposals.

Accordingly, the Commission, pursuant to Section 19(b)(2) of the Act,⁵ designates December 15, 2011, as the date by which the Commission should either approve, disapprove, or institute proceedings to determine whether to disapprove the proposed rule changes.

⁵ 15 U.S.C. 78s(b)(2).

For the Commission, by the Division of Trading and Markets, pursuant to delegated authority.⁶
⁶ 17 CFR 200.30-3(a)(12).
Kevin M. O'Neill,
Deputy Secretary.

[FR Doc. 2011-28529 Filed 11-3-11; 8:45 am]

BILLING CODE 8011-01-P